DEPARTMENT OF THE INTERIOR

Office of the Secretary

Notice of Meeting

SUMMARY: The Department of the Interior, Office of the Secretary is announcing a public meeting of the Exxon Valdez Oil Spill Public Advisory Group and a joint public hearing with the Exxon Valdez Oil Spill Trustee Council.

DATES: The public hearing is July 19, 2000, at 7:00 p.m. and the public meeting is July 20 at 8:30 a.m.

ADDRESSES: Fourth floor conference room, 645 “G” Street, Anchorage, Alaska.

FOR FURTHER INFORMATION CONTACT: Douglas Mutter, Department of the Interior, Office of Environmental Policy and Compliance, 1689 “C” Street, Suite 119, Anchorage, Alaska, (907) 271-5011.

SUPPLEMENTARY INFORMATION: The Public Advisory Group was created by Paragraph V.A.4 of the Memorandum of Agreement and Consent Decree entered into by the United States of America and the State of Alaska on August 27, 1991, and approved by the United States District Court for the District of Alaska in settlement of United States of America v. State of Alaska, Civil Action No. A91-081 CV. The agenda for the public hearing is the proposed Fiscal Year 2001 Work Plan for the restoration of resources and services injured by the T/V Exxon Valdez oil spill of 1989. The public meeting agenda will feature a discussion of the Work Plan, as well as the status of habitat protection measures in the spill impact area, and plans for the long-term Gulf Ecosystem Monitoring Program.

Willie R. Taylor,
Director, Office of Environmental Policy and Compliance.

[FR Doc. 00-14920 Filed 6-13-00; 8:45 am]

BILLING CODE 4310-RG-P